COMMITTEE FOR PURCHASE FROM PEOPLE WHO ARE BLIND OR SEVERELY DISABLED

Procurement List; Additions and Deletions

AGENCY: Committee for Purchase From People Who Are Blind or Severely Disabled.

ACTION: Additions to and Deletions from the Procurement List.

SUMMARY: This action adds products and services to the Procurement List that will be furnished by nonprofit agencies employing persons who are blind or have other severe disabilities, and deletes products from the Procurement List previously furnished by such agencies.

DATES: Effective Date: 11/1/2010.

ADDRESSES: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or e-mail CMTEFedReg@AbilityOne.gov.

SUPPLEMENTARY INFORMATION:

Additions

On 6/4/2010 (75 FR 31768-31769); 6/25/2010 (75 FR 36363-36371); 8/6/2010 (75 FR 47551); and 8/27/2010 (75 FR 52723-52724), the Committee for Purchase From People Who Are Blind or Severely Disabled published notices of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

PRODUCT NAME/NSN(s): Jacket, United States Coast Guard Running Suit.

NSN: 8415-00-NIB-0783—Size XS.

NSN: 8415-00-NIB-0784—Size SM.

NSN: 8415-00-NIB-0785—Size MD.

NSN: 8415-00-NIB-0786—Size LG.

NSN: 8415-00-NIB-0787—Size X-LG.

NSN: 8415-00-NIB-0788—Size XX-LG.

NPA: San Antonio Lighthouse for the Blind, San Antonio, TX

Contracting Activity: Department of Homeland Security, U.S. Coast Guard, Washington, DC

COVERAGE: C-List for 100% of the requirement of the U.S. Coast Guard as aggregated by the U.S. Coast Guard.

Services

Service Type/Location: Grounds Maintenance, Jonathan Wainwright Memorial VAMC, 77 Wainwright Drive, Walla Walla, WA.

NPA: Lillie Rice Center, Walla Walla, WA.

Contracting Activity: Department of Veterans Affairs, Network Business Office (10N20VBO), Vancouver, WA.

Service Type/Location: Property Management, Armed Forces Retirement Home-Gulfport, 1800 Beach Drive, Gulfport, MS.

NPA: AbilityWorks, Inc. of Harrison County, Gulfport, MS.

Contracting Activity: Bureau of the Public Debt, BPD/PSD3/ONDCP, Parkersburg, WV.

Service Type/Location: Base Operations Support, Joint Base Andrews Air Force Base, MD.

NPA: Davis Memorial Goodwill Industries, Washington, DC.

Contracting Activity: Dept of the Air Force, FA4416 316 Cons LGC, Andrews AFB, MD.

Service Type/Location: Custodial, Child Development Center, US Military Academy, 140 Buckner Loop, West Point, NY.

NPA: New Dynamics Corporation, Middletown, NY.

Contracting Activity: Dept of the Army, XR W6BA ACA, West Point, NY.

Deletions

On 7/23/2010 (75 FR 43153-43155), the Committee for Purchase From People Who Are Blind or Severely Disabled published a notice of proposed deletions from the Procurement List.

After consideration of the relevant matter presented, the Committee has determined that the products listed below are no longer suitable for procurement by the Federal Government under 41 U.S.C. 46-48c and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products to the Government.

3. There are no known regulatory alternatives which would accomplish the objectives of the Javits-Wagner-O'Day Act (41 U.S.C. 46-48c) in connection with the products deleted from the Procurement List.

End of Certification

Accordingly, the following products are deleted from the Procurement List:

Products

Protector, Hospital Bed, Pillow

NSN: 7210-00-958-9118.

NPA: Bosma Industries for the Blind, Inc., Indianapolis, IN.

Contracting Activity: GSA/Federal Acquisition Service, Fort Worth, TX.

Mop, Sponge and Refill

NSN: 7920-01-383-7799.

NSN: 7920-01-383-7927.

NPA: The Lighthouse for the Blind, Inc. (Seattle Lighthouse), Seattle, WA.

Contracting Activity: GSA/Federal Acquisition Service, Fort Worth, TX.

Barry S. Lineback,
Director, Business Operations.

[FR Doc. 2010-24696 Filed 9-30-10; 8:45 am]

BILLING CODE 6353-01-P